DEPARTMENT OF AGRICULTURE

Animal and Plant Health Inspection Service

[Docket No. APHIS-2015-0058]

Withdrawal of an Environmental Assessment and Finding of No Significant Impact for High Pathogenicity Avian Influenza Control in Commercial Poultry Operations—A National Approach

AGENCY: Animal and Plant Health Inspection Service, USDA.

ACTION: Notice.

SUMMARY: We are advising the public that we are withdrawing a final environmental assessment and finding of no significant impact that the Animal and Plant Health Inspection Service prepared under the National Environmental Policy Act relative to a national approach for the control of highly pathogenic avian influenza outbreaks within the United States. We are withdrawing the final environmental assessment and the associated finding of no significant impact pending further evaluation.

FOR FURTHER INFORMATION CONTACT: Ms. Lori Miller, PE, Senior Staff Officer and Environmental Engineer, APHIS Veterinary Services, 4700 River Road, Unit 41, Riverdale, MD 20737; (301) 851-3512.

SUPPLEMENTARY INFORMATION: Highly pathogenic avian influenza (HPAI) is an infectious and often fatal disease of poultry. In December 2014, two mixed-origin H5 viruses of HPAI were discovered in the United States. These viruses were subsequently detected in both migratory waterfowl and domestic poultry and affected domestic poultry production within the United States.

On February 9, 2016, the Animal and Plant Health Inspection Service (APHIS) published a notice in the Federal Register (81 FR 6828, Docket No. APHIS-2015-0058) ¹ announcing the availability of a December 2015 final environmental assessment (EA), entitled “High Pathogenicity Avian Influenza Control in Commercial Poultry Operations—A National Approach,” (2015 HPAI EA) and a finding of no significant impact (FONSI) relative to a national approach for the control of HPAI outbreaks within the United States. The 2015 HPAI EA recommended, and the FONSI selected, an alternative in which APHIS used its centralized management of carcass disposal activities to ensure consistency in responses to HPAI outbreaks throughout the United States. Under this alternative, APHIS provided information and other support to State and local authorities to help them determine which depopulation, disposal, and cleaning and disinfection methods were most appropriate for the situation.

¹ To view the notice and supporting documents, go to www.regulations.gov and enter APHIS-2015-0058 in the Search field.

According to the 2015 HPAI EA, “[g]iven the magnitude of the HPAI poultry incidents during spring 2015, APHIS want[ed] to ensure adequate preparation for subsequent incidents in poultry.” ² Therefore, the 2015 HPAI EA was prepared “to address the potential impacts of continuing to provide assistance with establishing and enforcing HPAI quarantines and conducting bird flu control activities as outbreaks occur across the nation.” ³

² USDA APHIS, High Pathogenicity Avian Influenza Control in Commercial Poultry Operations—A National Approach (Dec. 2015) on p.7.

³ Id.

In the intervening years since APHIS issued the 2015 HPAI EA and FONSI, circumstances have changed. First, the 2014/2015 HPAI outbreak ended in approximately August 2016 and there has not been an HPAI outbreak of that scale or magnitude in the United States since that time. Second, avian influenza outbreaks involving HPAI that have occurred in the United States in the interim have been more localized. In one instance, APHIS elected to prepare a site-specific EA and FONSI. Third, APHIS issued the Record of Decision for the Carcass Management During a Mass Animal Health Emergency Final Programmatic Environmental Impact Statement (PEIS) on March 17, 2016, after finalizing the 2015 HPAI EA and FONSI. The PEIS provides an analysis of the environmental effects associated with various carcass management options during a mass animal health emergency. An HPAI outbreak necessitating the depopulation of flocks and the subsequent disposal of large amounts of poultry carcasses could qualify as an animal health emergency and as such, the analysis in the PEIS is relevant and addresses some of the same issues addressed in the 2015 HPAI EA and FONSI. Finally, fourth, APHIS reviewed its 2015 HPAI EA and FONSI. Through its review of the 2015 HPAI EA and FONSI, APHIS acknowledges that the documents could benefit from more extensive analysis. Additionally, because there is no current HPAI outbreak, the 2015 HPAI EA and FONSI serve no function at present. Withdrawal of the 2015 HPAI EA and FONSI will not hamper APHIS' ability to respond to an outbreak in the future.

Based on the analysis above, pending further evaluation, we are withdrawing the December 2015 final EA and the FONSI associated with the notice published on February 9, 2016.

Done in Washington, DC, this 22nd day of July 2021.
Michael Watson,
Acting Administrator, Animal and Plant Health Inspection Service.

[FR Doc. 2021-16049 Filed 7-27-21; 8:45 am]

BILLING CODE 3410-34-P